FEDERAL COMMUNICATIONS COMMISSION

47 CFR Part 101

[DA 04-1588; WT Docket No. 99-327; FCC 00-272]

Amendment of the Commission's Rules To License Fixed Services at 24 GHz

AGENCY: Federal Communications Commission.

ACTION: Final rule; correcting amendment.

SUMMARY: In a rule published October 5, 2000, the Commission added and amended regulations governing the licensing and operation of the 24.25-24.45 GHz and 25.05-25.25 GHz bands to promote the effective use of the 24 GHz band and to accommodate deployment of point-to-point, point-to-multipoint fixed wireless technology at 24 GHz. In addition, the Commission adopted competitive bidding rules to select among mutually exclusive applicants for licenses in these bands. The FCC determined that the 24.25-24.45 GHz and 25.05-25.25 GHz bands (24 GHz band) would be made available for licensing throughout the United States by Economic Areas (EAs). In this connection, the Commission decided to use a total of 176 service areas—the 172 EAs specified by the Department of Commerce and four Commission-created EA-like areas for Guam and the Northern Mariana Islands, Puerto Rico and the United States Virgin Islands, American Samoa, and the Gulf of Mexico. This document contains editorial corrections to the final rules document.

DATES: Effective on July 27, 2004.

FOR FURTHER INFORMATION CONTACT: Nancy Zaczek at (202) 418-2487.

SUPPLEMENTARY INFORMATION: On October 5, 2000, (65 FR 59350), the Federal Register published a final rule in the above captioned proceeding. The Commission reached this decision in paragraph 18 of the Report and Order, which did not include a reference to the perimeter of the FCC-created EA-like area, Gulf of Mexico (EA 176). This document corrects paragraph 18 of the Report and Order, published on October 5, 2000, (FR 65 59350).

18. For these reasons, we determine that EAs constitute the most appropriate geographic area licensing for the 24 GHz band. EAs will provide ample population coverage and allow 24 GHz band licensees the flexibility to provide a multitude of service offerings. Thus, we determine to use a total of 176 service areas—the 172 EAs specified by the Department of Commerce and four EA-like areas for Guam and the Northern Mariana Islands, Puerto Rico and the United States Virgin Islands, American Samoa, and the Gulf of Mexico. In defining the perimeter of the Gulf of Mexico (EA 176), the Commission has stated that:

land-based license regions abutting the Gulf of Mexico will extend to the limit of the territorial waters of the United States in the Gulf, which is the maritime zone that extends approximately twelve nautical miles from the U.S. baseline.

Beyond that line of demarcation, we will create the Gulf of Mexico [service area], which will extend from that line outward to the broadest geographic limits consistent with international agreements.*

* Amendment of the Commission's Rules to Establish part 27, The Wireless Communications Service, GN Docket No. 96-228, Report and Order, 12 FCC Rcd 10,785, 10,816 paragraph 59 (1997) (internal cross-reference omitted).

Appendix C of the Report and Order contained Final Rules including 47 CFR 101.523, which establishes the service areas for the 24 GHz band. As adopted, the rule states that there are “three EA-like areas”; however, four EA-like areas are listed by name. Additionally, as adopted, the rule states that a “total of 176 authorizations will be issued for the 24 GHz Service by the FCC,” which is inaccurate given that, for the 24 GHz band, each EA has five channel pairs (each of which is licensed separately) for a total of 880 authorizations. See 47 CFR 101.505 citing 47 CFR 101.147(m), (n), and (r)(9). This correction is issued pursuant to § 0.331 of the Commission's rules on delegated authority, 47 CFR 0.331.

Need for Correction

As published, the final regulations contain errors which may prove to be misleading and need to be clarified.

List of Subjects in 47 CFR Part 101

Communications equipment, Radio, Reporting and recordkeeping requirements.

Federal Communications Commission.
Joel Taubenblatt,
Chief, Broadband Division.

For the reasons discussed in the preamble, the Federal Communications Commission amends 47 CFR part 101 as follows:

PART 101—FIXED MICROWAVE SERVICES

1. The authority for part 101 continues to read as follows:

Authority: 47 U.S.C. 154 and 303.

2. Section 101.523 is amended by revising paragraph (a) to read as follows:

§ 101.523 Service areas.

(a) The service areas for 24 GHz are Economic Areas (EAs) as defined in this paragraph (a). The Bureau of Economic Analysis, U.S. Department of Commerce, organized the 50 States and the District of Columbia into 172 EAs. See 60 FR 13114 (March 10, 1995). Additionally, there are four FCC-created EA-like areas:

(1) Guam and Northern Mariana Islands;

(2) Puerto Rico and the U.S. Virgin Islands;

(3) American Samoa, and

(4) the Gulf of Mexico. The Gulf of Mexico EA extends from 12 nautical miles off the U.S. Gulf coast outward into the Gulf. See 62 FR 9636 (March 3, 1997), in which the Commission created an additional four economic area-like areas for a total of 176 EA service areas. Maps of the EAs and the Federal Register Notice that established the 172 Economic Areas (EAs) are available for public inspection and copying at the FCC Reference Center, Room CY A-257, 445 12th St., SW., Washington, DC 20554. These maps and data are also available on the FCC Web site at www.fcc.gov/oet/info/maps/areas/.

* * * * *

[FR Doc. 04-16956 Filed 7-26-04; 8:45 am]

BILLING CODE 6712-01-P